ENVIRONMENTAL PROTECTION AGENCY

[EPA-HQ-OPP-2016-0310; FRL-9950-76]

Plant-Incorporated Protectants: Proposed Modifications of Registration Procedures for Plant-Incorporated Protectants in Breeding Line Intermediates; Notice of Availability; Extension of Comment Period

AGENCY: Environmental Protection Agency (EPA).

ACTION: Notice; extension of comment period.

SUMMARY: EPA issued a notice in the Federal Register of June 30, 2016, concerning the availability for public comment of a White Paper describing how the Agency is proposing to modify its current approach to plant-incorporated protectants in breeding line intermediates under section 3 of the Federal Insecticide, Fungicide and Rodenticide Act. This document extends the comment period for 45 days, from August 15, 2016 to September 29, 2016. Stakeholders have expressed a desire to comment on EPA's proposal and have requested additional time to review the proposal and respond.

DATES: Comments, identified by docket identification (ID) number EPA-HQ-OPP-2016-0310, must be received on or before September 29, 2016.

ADDRESSES: Follow the detailed instructions provided under ADDRESSES in the Federal Register document of June 30, 2016 (81 FR 42704) (FRL-9947-25).

FOR FURTHER INFORMATION CONTACT: Robert McNally, Biopesticides and Pollution Prevention Division (7511P), Office of Pesticide Programs, Environmental Protection Agency, 1200 Pennsylvania Ave. NW., Washington, DC 20460-0001; main telephone number: (703) 305-7090; email address: BPPDFRNotices@epa.gov.

SUPPLEMENTARY INFORMATION:

This document extends the public comment period established in the Federal Register document of June 30, 2016 (81 FR 42704) (FRL-9947-25). In that document, EPA makes available for public comment a White Paper describing how the Agency is proposing to modify its current approach to plant-incorporated protectants in breeding line intermediates under Section 3, Registration of Pesticides, of the Federal Insecticide, Fungicide and Rodenticide Act. EPA is hereby extending the comment period, which was set to end on August 15, 2016, to September 29, 2016.

To submit comments, or access the docket, please follow the detailed instructions provided under ADDRESSES in the Federal Register document of June 30, 2016. If you have questions, consult the person listed under FOR FURTHER INFORMATION CONTACT.

Authority: 7 U.S.C. 136 et seq.

Dated: August 11, 2016.
Robert C. McNally,
Director, Biopesticides and Pollution Prevention Division, Office of Pesticide Programs.

[FR Doc. 2016-19646 Filed 8-16-16; 8:45 am]

BILLING CODE 6560-50-P